COMMISSION ON CIVIL RIGHTS

Agenda and Notice of Public Meeting of the Montana Advisory Committee

Notice is hereby given, pursuant to the provisions of the rules and regulations of the U.S. Commission on Civil Rights, that a meeting of the Montana Advisory Committee to the Commission will convene at 1:30 p.m. and adjourn at 4:00 p.m. on Thursday, March 8, 2001, at the Holiday Inn, 400 10th Avenue, South, Great Falls, Montana 59405. The purpose of the meeting is to brief the Committee members on civil rights issues in the State and to provide an update on the current project, “Equal Educational Opportunities for Native American Students in Montana Public Schools.”

Persons desiring additional information, or planning a presentation to the Committee, should contact John Dulles, Director of the Rocky Mountain Regional Office, 303-866-1040 (TDD 303-866-1049). Hearing-impaired persons who will attend the meeting and require the services of a sign language interpreter should contact the Regional Office at least ten (10) working days before the scheduled date of the meeting.

The meeting will be conducted pursuant to the provisions of the rules and regulations of the Commission.

Dated at Washington, DC, January 31, 2001.
Edward A. Hailes, Jr.,
General Counsel.

[FR Doc. 01-2987 Filed 2-5-01; 8:45 am]

BILLING CODE 6335-01-P